NATIONAL SCIENCE FOUNDATION

Agency Information Collection Activities: Comment Request

AGENCY: National Science Foundation.

ACTION: Submission for OMB Review; Comment Request.

SUMMARY: The National Science Foundation (NSF) has submitted the following information collection requirements to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Office of Information and Regulatory Affairs of OMB, Attention: Desk Officer for National Science Foundation, 725 17th Street, NW., Room 10235, Washington, DC 20503, and to Suzanne H. Plimpton, Reports Clearance Officer, National Science Foundation, 4201 Wilson Boulevard, Suite 295, Arlington, Virginia 22230 or send e-mail to splimpto@nsf.gov. Comments regarding these information collections are best assured of having their full effect if received within 30 days of this notification. Copies of the submission(s) may be obtained by calling 703-292-7556.

NSF may not conduct or sponsor a collection of information unless the collection of information displays a currently valid OMB control number and the agency informs potential persons who are to respond to the collection of information that such persons are not required to respond to the collection of information unless it displays a currently valid OMB control number.

SUPPLEMENTARY INFORMATION: Title: Survey of Doctorate Recipients.

OMB Control Number: 2145-0020.

Summary of Collection: The National Opinion Research Center (NORC) will conduct this study for NSF in 2006. The National Research Council (NRC) conducted the survey from 1973 through 1995, the National Opinion Research Center (NORC) conducted the 1997 and 2003 surveys, and the Bureau of the Census conducted the 1999 and 2001 surveys. Data collection will begin in April 2006 using a mail questionnaire, computer assisted telephone interviewing and web survey. The survey will be collected in conformance with the Privacy Act of 1974 and the individual's response to the survey is voluntary. The first Federal Register notice for this survey was 70 FR 49320, published August 23, 2005, and one comment was received.

Comment: On August 23, 2005, NSF published in the Federal Register (70 FR 49320) a 60-day notice of its intent to request reinstatement of this information collection authority from OMB. In that notice, NSF solicited public comments for 60 days ending October 24, 2005. One comment was received from the public notice. The comment came from B. Sachau of Floram Park, NJ, via e-mail on August 23, 2005. Ms. Sachau objected to the information collection. Ms. Sachau had no specific suggestions for altering the data collection plans other than to discontinue them entirely.

Response: NSF responded to Ms. Sachau on November 22, 2005, describing the program, and addressing the frequency and the cost issues raised by Ms. Sachau. NSF believes that because the comment does not pertain to the collection of information on the required forms for which NSF is seeking OMB approval, NSF is proceeding with the clearance request.

Need and Use of the Information: The purpose of this longitudinal study is to provide national estimates of the doctorate level science and engineering workforce and changes in employment, education and demographic characteristics. The study is one of the three components of the Scientists and Engineers Statistical Data System (SESTAT). NSF uses this information to prepare Congressionally mandated reports such as Science and Engineering Indicators and Women, Minorities and Persons with Disabilities in Science and Engineering. A public release file of collected data, edited to protect respondent confidentiality, will be made available to researchers on CD-ROM and on the World Wide Web.

Description of Respondents: Individuals.

Number of Respondents: 34,400.

Frequency of Responses: Biennial reporting.

Total Burden Hours: 15,229.

Title: National Survey of Recent College Graduates.

OMB Control Number: 3145-0077.

Summary of Collection: The Bureau of the Census will conduct the study for NSF in the 2006 survey cycle. Mathematics Policy Research conducted the 2003 Survey and Westat Inc. conducted the surveys in 1995, 1997, 1999 and 2001. Data collection will begin in April 2006 using mail questionnaire, computer assisted telephone interviewing and web survey. The survey will be collected in conformance with the Privacy Act of 1974 and the individual responses to the survey are voluntary. The first Federal Register notice for this survey was 70 FR 49321, published August 23, 2005, and one comment was received.

Comment: On August 23, 2005, NSF published in the Federal Register (70 FR 49321) a 60-day notice of its intent to request reinstatement of this information collection authority from OMB. In that notice, NSF solicited public comments for 60 days ending October 24, 2005. One comment was received from the public notice. The comment came from B. Sachau of Floram Park, NJ, via e-mail on August 23, 2005. Ms. Sachau objected to the information collection. Ms. Sachau had no specific suggestions for altering the data collection plans other than to discontinue them entirely.

Response: NSF responded to Ms. Sachau on November 22, 2005, describing the program, and addressing the frequency and the cost issues raised by Ms. Sachau. NSF believes that because the comment does not pertain to the collection of information on the required forms for which NSF is seeking OMB approval, NSF is proceeding with the clearance request.

Need and Use of the Information: The purpose of this study is to provide cross sectional and longitudinal estimates of recent science and engineering graduates to use in preparing national estimates of the Nation's science and engineering workforce. The study is one of three components Scientists and Engineers Statistical Data System (SESTAT). NSF uses this information to prepare Congressionally mandated reports such as Science and Engineering Indicators and Women, Minorities and Persons with Disabilities in Science and Engineering.

Description of Respondents: Individuals.

Number of Respondents: 21,600.

Frequency of Responses: Biennial reporting.

Total Burden Hours: 9,000.

Title: National Survey of College Graduates.

OMB Control Number: 3145-0141.

Summary of Collection: The Bureau of the Census, as in the past, will conduct this study for NSF. Questionnaires will be mailed in April 2006 and nonrespondents to the mail questionnaire will receive computer assisted telephone interviewing. The survey will be collected in conformance with the Privacy Act of 1974 and the individual's response to the survey is voluntary. The first federal register notice for this survey was 70 FR 49321, published August 23, 2005, and one comment was received.

Comment: On August 23, 2005, NSF published in the Federal Register (70 FR 49321) a 60-day notice of its intent to request renewal of this information collection authority from OMB. In that notice, NSF solicited public comments for 60 days ending October 24, 2005. One comment was received from the public notice. The comment came from B. Sachau of Floram Park, NJ, via e-mail on August 23, 2005. Ms. Sachau objected to the information collection. Ms. Sachau had no specific suggestions for altering the data collection plans other than to discontinue them entirely.

Response: NSF responded to Ms. Sachau on November 22, 2005, describing the program, and addressing the frequency and the cost issues raised by Ms. Sachau. NSF believes that because the comment does not pertain to the collection of information on the required forms for which NSF is seeking OMB approval, NSF is proceeding with the clearance request.

Need and Use of the Information: The purpose of this longitudinal study is to provide national estimates on the experienced science and engineering workforce and changes in employment, education and demographic characteristics over time. The study is the third component of the Scientists and Engineers Statistical Data System (SESTAT). NSF uses this information to prepare Congressionally mandated reports such as Science and Engineering Indicators and Women, Minorities and Persons with Disabilities in Science and Engineering. A public release file of collected data, edited to protect respondent confidentiality, will be made available to researchers on CD-ROM and on the World Wide Web.

Description of Respondents: Individuals.

Number of Respondents: 61,200.

Frequency of Responses: Biennial reporting.

Total Burden Hours: 25,500.

Dated: December 23, 2005.
Suzanne H. Plimpton,
Reports Clearance Officer, National Science Foundation.

[FR Doc. 05-24593 Filed 12-28-05; 8:45 am]

BILLING CODE 7555-01-M